DEPARTMENT OF LABOR

Employment and Training Administration

[TA-W-51,009]

Robert Bosch Tool Corporation (Formerly the Vermont American Corporation) Engineering Center, Louisville, KY; Notice of Negative Determination Regarding Application for Reconsideration

By a letter postmarked July 17, 2003, petitioners requested administrative reconsideration of the Department's negative determination regarding eligibility for workers and former workers of the subject firm to apply for Trade Adjustment Assistance (TAA). The denial notice was signed on May 28, 2003 and published in the Federal Register on June 19, 2003 (68 FR 36845).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Robert Bosch Tool Corporation, Engineering Center, Louisville, Kentucky, engaged in the production of one-of-a-kind machinery utilized at other affiliated company facilities, was denied because the “contributed importantly” or shift in production group eligibility requirements of Section 222 of the Trade Act of 1974 were not met. Increased imports did not contribute importantly to worker separations at the subject plant and the company did not shift production to a foreign source.

The petitioners produced machinery which is used to manufacture power tools. They allege that they should be certified eligible for TAA because manufacturing divisions of Robert Bosch have shifted production of power tools and/or power tool components to foreign countries.

Despite their indication that they are “secondary workers”, it is not clear from the wording of the reconsideration request whether the petitioners are appealing on the basis of primary or secondary impact.

Given that the initial investigation revealed that there was no import impact or shift of production of the subject firm product (machines for producing power tools) to a foreign source, the petitioning worker group would have to supply a TAA certified affiliated facility in order to be eligible for certification under primary impact. The initial investigation revealed that, although there are three Robert Bosch Corporation facilities that are under active TAA certification, none of these facilities were supplied by the subject facility.

In order to be eligible for TAA certification under secondary impact, the petitioning worker group must either supply a component part of a product that is the basis of a TAA certification for a customer firm (upstream supplier), or assemble or finish a product that is the basis of TAA certification for a customer firm (downstream producer). As the petitioners produce a machine that produces power tool components, they are neither an upstream supplier nor a downstream producer of power tool components.

Conclusion

After review of the application and investigative findings, I conclude that there has been no error or misinterpretation of the law or of the facts which would justify reconsideration of the Department of Labor's prior decisions. Accordingly, the application is denied.

Signed at Washington, DC, this 12th day of August, 2003.
Elliott S. Kushner,
Certifying Officer, Division of Trade Adjustment Assistance.

[FR Doc. 03-22997 Filed 9-9-03; 8:45 am]

BILLING CODE 4510-30-P